DEPARTMENT OF ENERGY

Federal Energy Regulatory Commission

Combined Notice of Filings # 1

October 1, 2008

Take notice that the Commission received the following electric rate filings:

Docket Numbers: ER99-4102-008.

Applicants: Milford Power Company, LLC.

Description: Amendment to Market Power Update of Milford Power Company, LLC.

Filed Date: 08/14/2008.

Accession Number: 20080814-5064.

Comment Date: 5 pm Eastern Time on Friday, October 10, 2008.

Docket Numbers: ER05-287-004.

Applicants: Granite Ridge Energy, LLC.

Description: Granite Ridge Energy, LLC submits an updated market power analysis in compliance with Order No. 697 under ER05-287.

Filed Date: 09/26/2008.

Accession Number: 20081001-0118.

Comment Date: 5 pm Eastern Time on Friday, October 17, 2008.

Docket Numbers: ER08-1169-002.

Applicants: Midwest Independent Transmission System.

Description: Midwest Independent Transmission System Operator Inc submits proposed revisions to their Open Access Transmission and Energy Markets Tariff.

Filed Date: 09/24/2008.

Accession Number: 20080929-0051.

Comment Date: 5 pm Eastern Time on Wednesday, October 15, 2008.

Docket Numbers: ER08-1194-002.

Applicants: Columbia Energy LLC.

Description: Columbia Energy LLC submits their compliance filing of their revised Rate Schedule FERC 1 for Reactive Supply and Voltage Control from Generation Sources Service from South Carolina Electric & Gas Company etc.

Filed Date: 09/29/2008.

Accession Number: 20081001-0043.

Comment Date: 5 pm Eastern Time on Monday, October 20, 2008.

Docket Numbers: ER08-1572-000.

Applicants: PJM Interconnection, L.L.C.

Description: PJM Interconnection, LLC submits revised executed interconnection service agreements with Indiana Michigan Power Co.

Filed Date: 09/24/2008.

Accession Number: 20080929-0053.

Comment Date: 5 pm Eastern Time on Wednesday, October 15, 2008.

Docket Numbers: ER08-1573-000.

Applicants: PJM Interconnection, L.L.C.

Description: PJM Interconnection LLC submits an executed interim interconnection service agreement with Hudson Transmission Partners LLC et al.

Filed Date: 09/24/2008.

Accession Number: 20080929-0050.

Comment Date: 5 pm Eastern Time on Wednesday, October 15, 2008.

Docket Numbers: ER08-1574-000.

Applicants: ORNI 18, LLC.

Description: ORNI 18, LLC submits an Application for Market-Based Rate Authority, Request for Waivers and Pre-Approvals, and Request for Finding of Qualification as Category 1 Seller.

Filed Date: 09/29/2008.

Accession Number: 20081001-0045.

Comment Date: 5 pm Eastern Time on Monday, October 20, 2008.

Docket Numbers: ER08-1584-000.

Applicants: Black Hills Power, Inc.

Description: Black Hills Power, Inc. submits First Revised Sheet No. 114 et al. to FERC Electric Tariff, Second Sub First Revised Volume No. 4, to be effective 12/1/08.

Filed Date: 09/29/2008.

Accession Number: 20081001-0052.

Comment Date: 5 pm Eastern Time on Monday, October 20, 2008.

Docket Numbers: ER08-1585-000.

Applicants: Southwest Power Pool, Inc.

Description: Southwest Power Pool, Inc. submits a Large Generator Interconnection Agreement with Southwestern Public Service Co.

Filed Date: 09/29/2008.

Accession Number: 20081001-0048.

Comment Date: 5 pm Eastern Time on Monday, October 20, 2008.

Docket Numbers: ER08-1586-000.

Applicants: New York Independent System Operator, Inc.

Description: New York Independent System Operator Inc. et al. submits an executed Standard Small Generator Interconnection Agreement with Casella Waste Systems Inc. and on 9/30/08 submitted an errata to this filing.

Filed Date: 09/29/2008; 09/30/2008.

Accession Number: 20081001-0073; 20081001-0072.

Comment Date: 5 pm Eastern Time on Monday, October 20, 2008.

Docket Numbers: ER08-1587-000.

Applicants: Kentucky Utilities Company.

Description: Kentucky Utilities Company submits an executed copy of Amendment 2 to Contract for Electric Service as Exhibit A with City of Madisonville, Kentucky.

Filed Date: 09/29/2008.

Accession Number: 20081001-0044.

Comment Date: 5 pm Eastern Time on Monday, October 20, 2008.

Docket Numbers: ER08-1588-000.

Applicants: Kentucky Utilities Company.

Description: Kentucky Utilities Co. submits amended and restated agreements for requirements service.

Filed Date: 09/29/2008.

Accession Number: 20081001-0146.

Comment Date: 5 pm Eastern Time on Monday, October 20, 2008.

Docket Numbers: ER08-1603-000.

Applicants: Niagara Mohawk Power Corporation.

Description: Niagara Mohawk Power Corp. submits Eighth Revised Sheet 404 et al. to FERC Electric Tariff, Original Volume 1 for inclusion in the NYISO Open Access Transmission Tariff.

Filed Date: 09/12/2008.

Accession Number: 20081001-0126.

Comment Date: 5 pm Eastern Time on Friday, October 10, 2008.

Take notice that the Commission received the following electric reliability filings

Docket Numbers: RR07-7-005.

Applicants: North American Electric Reliability Corp.

Description: Petition of the North American Electric Reliability Corporation for Approval of Revisions to Exhibit E to Delegation Agreement with the Western Electricity Coordinating Council.

Filed Date: 09/30/2008.

Accession Number: 20080930-5086.

Comment Date: 5 p.m. Eastern Time on Friday, October 10, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E8-23800 Filed 10-7-08; 8:45 am]

BILLING CODE 6717-01-P